ENVIRONMENTAL PROTECTION AGENCY

40 CFR Parts 122 and 123

[EPA-HQ-OW-2022-0834; FRL-10123-03-OW]

RIN 2040-AG27

NPDES Small MS4 Urbanized Area Clarification; Extension of Comment Period

AGENCY: Environmental Protection Agency (EPA).

ACTION: Proposed rule; extension of comment period.

SUMMARY: The Environmental Protection Agency (EPA) is extending the comment period for the proposed rule entitled “NPDES Small MS4 Urbanized Area Clarification.” EPA is extending the comment period for 15 days, from January 3, 2023 to January 18, 2023, in response to a stakeholder request for an extension. EPA is also publishing the same extension of the comment period to the direct final rule in the Federal Register.

DATES: The comment period for the proposed rule published in the Federal Register on December 2, 2022 (87 FR 74066), is being extended for fifteen days. Comments must be received on or before January 18, 2023.

ADDRESSES: You may send comments, identified by Docket ID No. EPA-HQ-OW-2022-0834 to https://www.regulations.gov/. Follow the online instructions for submitting comments.

Once submitted, comments cannot be edited or removed from Regulations.gov. EPA may publish any comment received to the public docket. Do not submit electronically any information you consider to be Confidential Business Information (CBI) or other information whose disclosure is restricted by statute. Multimedia submissions (audio, video, etc.) must be accompanied by a written comment.

The written comment is considered the official comment and should include discussion of all points you wish to make. The agencies will generally not consider comments or comment contents located outside of the primary submission (i.e., on the web, cloud, or other file sharing system). For additional submission methods, the full EPA public comment policy, information about CBI or multimedia submissions, and general guidance on making effective comments, please visit http://www2.epa.gov/dockets.

FOR FURTHER INFORMATION CONTACT: Heather Huddle, Water Permits Division (MC4203), Environmental Protection Agency, 1200 Pennsylvania Ave. NW, Washington, DC 20004; telephone number: (202) 564-7932; email address: huddle.heather@epa.gov.

SUPPLEMENTARY INFORMATION: On December 2, 2022, EPA published a direct final rule (87 FR 73965) and a proposed rule (87 FR 74066) entitled “NPDES Small MS4 Urbanized Area Clarification.” The original deadline to submit comments was January 3, 2023. This action extends the comment period for 15 days. Written comments must now be received by January 18, 2023. Related to this extension, the direct final rule will become effective on March 2, 2023 without further notice, unless EPA receives adverse comment by January 18, 2023. If EPA receives adverse comment by January 18, 2023, the Agency will publish a timely withdrawal in the Federal Register informing the public that the rule will not take effect.

Wynne Miller,
Deputy Director, Office of Wastewater Management.

[FR Doc. 2022-28313 Filed 12-28-22; 8:45 am]

BILLING CODE 6560-50-P